DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490, or; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

The Secretary of State has identified the following persons in a list submitted to the appropriate congressional committees pursuant to Executive Order “Blocking Property of Certain Persons with Respect to the Conventional Arms Activities of Iran.” Accordingly, on September 21, 2020, the Director of OFAC, acting pursuant to delegated authority, has taken the actions described below to impose the sanctions set forth in Section 2 of this Executive Order with respect to the persons listed below.

Individuals

1. MADURO MOROS, Nicolas (Latin: MADURO MOROS, Nicolás), Caracas, Capital District, Venezuela; DOB 23 Nov 1962; POB Caracas, Venezuela; citizen Venezuela; Gender Male; Cedula No. 5892464 (Venezuela); President of the Bolivarian Republic of Venezuela (individual) [VENEZUELA] [IRAN-CON-ARMS-E.O.].

Designated pursuant to section 1(a)(i) of Executive Order 13949 of September 21, 2020, 85 FR 60043 (E.O. 13949) for having engaged, or attempted to engage, in activities or transactions that have materially contributed to the supply, sale, or transfer to or from Iran directly or indirectly, or for the use in or benefit of Iran, of arms or related materiel, including spare parts.

2. KETABACHI, Mehrdada Akhlaghi (a.k.a. KETABCHI, Merhdada Akhlaghi), c/o AIO, Langare Street, Nobonyad Square, Tehran, Iran; c/o SBIG, Tehran, Iran; DOB 10 Sep 1958; nationality Iran; Additional Sanctions Information—Subject to Secondary Sanctions; Passport A0030940 (Iran) (individual) [NPWMD] [IFSR] [IRAN-CON-ARMS-E.O.].

Designated pursuant to section 1(a)(i) of E.O. 13949 for having engaged, or attempted to engage, in activities or transactions that have materially contributed to the supply, sale, or transfer to or from Iran directly or indirectly, or for the use in or benefit of Iran, of arms or related materiel, including spare parts.

Entities

1. DEFENSE INDUSTRIES ORGANIZATION (a.k.a. DEFENCE INDUSTRIES ORGANISATION; a.k.a. DIO; a.k.a. SASEMAN SANAJE DEFA; a.k.a. SAZEMANE SANAYE DEFA; a.k.a. “SASADJA”), P.O. Box 19585-777, Pasdaran Street, Entrance of Babaie Highway, Permanent Expo of Defence Industries Organization, Tehran, Iran; Additional Sanctions Information—Subject to Secondary Sanctions [NPWMD] [IFSR] [IRAN-CON-ARMS-E.O.].

Designated pursuant to section 1(a)(i) of E.O. 13949 for having engaged, or attempted to engage, in activities or transactions that have materially contributed to the supply, sale, or transfer to or from Iran directly or indirectly, or for the use in or benefit of Iran, of arms or related materiel, including spare parts.

2. MINISTRY OF DEFENSE AND ARMED FORCES LOGISTICS (a.k.a. GOVERNMENT OF IRAN DEPARTMENT OF DEFENSE; a.k.a. MINISTRY OF DEFENCE & ARMED FORCES LOGISTICS; a.k.a. MINISTRY OF DEFENSE AND SUPPORT FOR ARMED FORCES LOGISTICS; a.k.a. MINISTRY OF DEFENSE ARMED FORCES LOGISTICS; a.k.a. MINISTRY OF DEFENSE FOR ARMED FORCES LOGISTICS; a.k.a. MODAFL; a.k.a. MODSAF; a.k.a. VEZARATE DEFA; a.k.a. VEZARAT-E DEFA VA POSHTYBANI-E NIRU-HAYE MOSALLAH), Ferdowsi Avenue, Sarhang Sakhaei Street, Tehran, Iran; PO Box 11365-8439, Pasdaran Ave., Tehran, Iran; West side of Dabestan Street, Abbas Abad District, Tehran, Iran; Additional Sanctions Information—Subject to Secondary Sanctions [SDGT] [NPWMD] [IFSR] [IRAN-CON-ARMS-E.O.] (Linked To: ISLAMIC REVOLUTIONARY GUARD CORPS (IRGC)-QODS FORCE).

Designated pursuant to section 1(a)(i) of E.O. 13949 for having engaged, or attempted to engage, in activities or transactions that have materially contributed to the supply, sale, or transfer to or from Iran directly or indirectly, or for the use in or benefit of Iran, of arms or related materiel, including spare parts.

Dated: September 24, 2020.
Andrea M. Gacki,
Director, Office of Foreign Assets Control.

[FR Doc. 2020-22724 Filed 10-13-20; 8:45 am]

BILLING CODE 4810-AL-P